DEPARTMENT OF HEALTH AND HUMAN SERVICES

Health Resources and Services Administration

Agency Information Collection Activities: Submission to OMB for Review and Approval; Public Comment Request; Information Collection Request; Federal Tort Claims Act Program Deeming Applications for Health Centers, 0906-0035, Extension

AGENCY: Health Resources and Services Administration (HRSA), Department of Health and Human Services.

ACTION: Notice.

SUMMARY: In compliance with of the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this notice has closed.

DATES: Comments on this ICR should be received no later than May 3, 2021.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Lisa Wright-Solomon, the HRSA Information Collection Clearance Officer at paperwork@hrsa.gov or call (301) 443-1984.

SUPPLEMENTARY INFORMATION: When submitting comments or requesting information, please include the information request collection title for reference.

Information Collection Request Title: Federal Tort Claims Act Program Deeming Application for Health Centers, OMB No. 0906-0035—Extension.

Abstract: Section 224(g)-(n) of the Public Health Service (PHS) Act (42 U.S.C. 233(g)-(n)), as amended, authorizes the “deeming” of entities receiving funds under section 330 of the PHS Act as PHS employees for the purposes of receiving Federal Tort Claims Act (FTCA) coverage. The Health Center Program is administered by HRSA's Bureau of Primary Health Care. Health centers submit deeming applications annually to HRSA in the prescribed form and manner in order to obtain deemed PHS employee status, with the associated FTCA coverage.

Deemed PHS employment provides the covered individual with immunity from lawsuits and related civil actions resulting from the performance of medical, surgical, dental, and related functions within the scope of deemed employment.

The FTCA Program has a web-based application system, the Electronic Handbooks (EHBs). These electronic application forms decrease the time and effort required to complete the older, paper-based OMB approved FTCA application forms. The application includes: Contact Information; Section 1: Review of Risk Management Systems; Section 2: Quality Improvement/Quality Assurance (QI/QA) Attestations; Section 3: Credentialing and Privileging; Section 4: Claims Management; and Section 5: Additional Information, Certification, and Signatures.

HRSA is proposing no changes to the Application for Health Center Program Deemed Public Health Service Employment Status, to be used for Health Center deeming applications for Calendar Year 2021 and thereafter.

A 60-day notice published in the Federal Register on February 5, 2021, Vol. 86, No. 23; pp. 8364-65. There were no public comments.

Need and Proposed Use of the Information: Deeming applications must address certain specified criteria required by law in order for deeming determinations to be issued, and FTCA application forms are critical to HRSA's deeming determination process. This form provides HRSA with information that is essential for evaluating health center adherence to FTCA program requirements and making a determination as to whether a health center meets the statutory requirements for deemed PHS employee status for the purposes of FTCA coverage. The application information is also used to determine whether a site visit is appropriate to assess issues relating to the health center's quality of care and to determine technical assistance needs.

Likely Respondents: Respondents include Health Center Program funds recipients seeking deemed PHS employee status for purposes of FTCA coverage.

Burden Statement: Burden in this context means the time expended by persons to generate, maintain, retain, disclose or provide the information requested. This includes the time needed to review instructions; to develop, acquire, install and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
FTCA Health Center Program Initial Application | 35 | 1 | 35 | 2.5 | 87.5
FTCA Health Center Program Redeeming Application | 1,125 | 1 | 1,125 | 2.5 | 2,812.5
Total | 1,160 |  | 1,160 |  | 2,900.0

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2021-06690 Filed 3-31-21; 8:45 am]

BILLING CODE 4165-15-P